FEDERAL COMMUNICATIONS COMMISSION

47 CFR Part 73

[DA No. 02-59; MM Docket No. 99-257; RM-9683]

Radio Broadcasting Services; Centerville, TX

AGENCY: Federal Communications Commission.

ACTION: Final rule; dismissal.

SUMMARY: This document dismisses a Petition for Reconsideration filed by Radio Licensing, Inc. (“RLI”). In response to a petition filed by Wolverine Broadcasting, the Notice in this proceeding proposed the allotment of Channel 274A at Centerville, Texas. See 64 FR 59124, November 2, 1999. In response to comments filed in this proceeding, Channel 278A rather than Channel 274A was allotted to Centerville, Texas. Radio Licensing, Inc. filed a Petition for Reconsideration but on December 17, 2001, withdrew the Petition for Reconsideration in compliance with Section 1.420(j) of the Commission's Rules. As requested, we shall dismiss the Petition for Reconsideration. With this action, this proceeding is terminated.

FOR FURTHER INFORMATION CONTACT: Kathleen Scheuerle, Mass Media Bureau, (202) 418-2180.

SUPPLEMENTARY INFORMATION: This is a summary of the Commission's Memorandum Opinion and Order, MM Docket No. 99-257, adopted January 2, 2002, and released January 11, 2002. The full text of this Commission decision is available for public inspection and copying during regular business hours at the FCC Reference Information Center, Portals II, 445 12th Street, SW., Room CY-A257, Washington, DC, 20554. This document may also be purchased from the Commission's duplicating contractor, Qualex International, Portals II, 445 12th Street, SW., Room CY-B402, Washington, DC, 20554, telephone 202-863-2893, facsimile 202-863-2898, or via e-mail qualexint@aol.com.

Federal Communications Commission.
John A. Karousos,
Chief, Allocations Branch, Policy and Rules Division, Mass Media Bureau.

[FR Doc. 02-2620 Filed 2-1-02; 8:45 am]

BILLING CODE 6712-01-P